DEPARTMENT OF THE INTERIOR

Bureau of Land Management

[LLCOS05000 L13100000.DB0000-16X]

Notice of Availability of the Record of Decision for the Bull Mountain Unit Master Development Plan, Gunnison County, CO

AGENCY: Bureau of Land Management, Interior.

ACTION: Notice.

SUMMARY: In accordance with the National Environmental Policy Act of 1969 (NEPA), as amended, and the Federal Land Policy and Management Act of 1976, as amended, the Bureau of Land Management (BLM) prepared a Record of Decision (ROD) for the Bull Mountain Unit Master Development Plan (MDP) and by this notice is announcing its availability.

DATES: Requests for BLM Colorado State Director review of the Decision must be filed within 20 business days from the date of receipt of the Decision.

ADDRESSES: Copies of the Bull Mountain Unit MDP ROD are available for public inspection at the BLM Uncompahgre Field Office, 2465 South Townsend Ave., Montrose, CO 81401. Interested persons may also review the ROD and the Final Environmental Impact Statement (EIS) on the project Web site at https://eplanning.blm.gov/epl-front-office/eplanning/legacyProjectSite.do?methodName=renderLegacyProjectSite&projectId=66641.

Mail requests for BLM Colorado State Director review of the Decision to the BLM Colorado State Director, BLM Colorado State Office, 2850 Youngfield Street, Lakewood, CO 80215.

FOR FURTHER INFORMATION CONTACT: Gina Phillips, Southwest District NEPA Coordinator; telephone (970) 240-5300; email gphillips@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM Uncompahgre Field Office received a proposed MDP for natural gas exploration and development from SG Interests I, Ltd. (SGI) for the Bull Mountain Unit. An MDP provides information common to multiple planned wells, including drilling plans, Surface Use Plans of Operations, and plans for future production.

The Bull Mountain Unit MDP ROD identifies the Preferred Alternative (Alternative D from the Final EIS), with minor modifications, as the BLM's Selected Alternative. Approval of the Preferred Alternative as described in the Final EIS (2016) meets the BLM's purpose and need, provides for natural gas exploration and development, and approves the Federal 12-89-7-1 Application for Permit to Drill (APD). The Selected Alternative approves a plan for the exploration and development of up to 146 natural gas wells, four water disposal wells, and associated infrastructure on Federal and private mineral leases within a Federally-unitized area known as the Bull Mountain Unit. SGI requested and obtained the BLM's approval of the unit after exploration wells demonstrated the potential for economically viable reserves of natural gas.

The Bull Mountain Unit is located within the Colorado River basin, approximately 30 miles northeast of the Town of Paonia, and is bisected by State Highway 133. The boundaries of the unit encompass approximately 19,670 acres of Federal and private oil and gas mineral estate in Gunnison County, Colorado. The unit consists of 440 acres of BLM Federal surface lands and subsurface mineral estate; 12,900 acres of split-estate lands consisting of private surface and Federal mineral estate administered by the BLM; and 6,330 acres of fee land consisting of private surface and private mineral estate. Work on the MDP began with a preliminary Environmental Assessment in 2008. In 2012, the BLM determined that an EIS was necessary due to potential significant impacts to air quality in nearby Class 1 air sheds, water, socioeconomics, and wildlife. The BLM released the Draft EIS on January 16, 2015, for a 90-day public comment period (80 FR 2438). The BLM received 565 unique comment letters and 83 form letters. Based on these public comments, internal reviews, and cooperating agency input, the BLM revised the Draft EIS and published the Final EIS on July 8, 2016 (81 FR 44652).

The BLM also consulted with the U.S. Fish and Wildlife Service (FWS), which concurred with the BLM's finding that the project “may affect, but is not likely to adversely affect” the green lineage Colorado River cutthroat trout and Canada Lynx and designated habitat for both species, and that it “may affect, is likely to adversely affect” four endangered Colorado River fish, but that anticipated water depletions from the Colorado River basin are within the amounts addressed in the FWS's 2008 programmatic biological opinion. Finally, the BLM consulted with the Colorado State Historic Preservation Office, which raised no concerns as to the project's potential to affect historic properties.

Based on public comments, internal BLM comments, and updated information provided by SGI, the BLM selected the BLM's Preferred Alternative (Alternative D), as modified, for approval in the ROD. The decision includes a suite of design features, mitigation measures and best management practices that specifically address impacts to air resources and air quality related values, water resources, and wildlife.

The BLM's decision, which is based on Alternative D in the Final EIS, is the environmentally preferred action because it best meets the following criteria:

• Satisfies statutory requirements (true for all alternatives).

• Represents what the BLM considers to be the best combination of actions and best meets the purpose and need as described in Chapter 1 of the Final EIS.

• Provides the best approach to address key resource and planning issues.

• Provides resource protection and a viable strategy for development of the mineral resource.

• Responds to public comments.

• Includes input from cooperating agencies, stakeholders, the public, and BLM specialists.

An adversely affected party may seek administrative review of the Decision by the Colorado State Director, as provided in 43 CFR 3165.3. A request for State Director review must be filed in the BLM Colorado State Office within 20 business days from the date of receipt of the Decision.

Authority: 40 CFR 1506.6, 40 CFR 1506.10.

Gregory P. Shoop,
Acting BLM Colorado State Director.

[FR Doc. 2017-20948 Filed 10-3-17; 8:45 am]

BILLING CODE 4310-JB-P